DEPARTMENT OF TRANSPORTATION

Federal Motor Carrier Safety Administration

[Docket No. FMCSA-2020-0062]

Marking of Commercial Motor Vehicles; Application for an Exemption Adirondak Trailways, Pine Hill Trailways, and New York Trailways

AGENCY: Federal Motor Carrier Safety Administration (FMCSA), DOT.

ACTION: Notice of application for exemption; request for comments.

SUMMARY: The Federal Motor Carrier Safety Administration (FMCSA) requests public comment on an application for exemption from Adirondack Transit Lines, Inc. (dba Adirondak Trailways), Pine Hill-Kingston Bus Corp. (dba Pine Hill Trailways), and Passenger Bus Corp. (dba New York Trailways). The commonly owned and controlled motor carriers have requested an exemption from FMCSA's commercial motor vehicle (CMV) marking rules under certain circumstances involving the exchange of equipment and/or drivers.

DATES: Comments must be received on or before February 13, 2020.

ADDRESSES: You may submit comments bearing the Federal Docket Management System (FDMS) Docket ID FMCSA-2020-0062 using any of the following methods:

• Website: http://www.regulations.gov. Follow the instructions for submitting comments on the Federal electronic docket site.

• Fax: 1-202-493-2251.

• Mail: Docket Management Facility, U.S. Department of Transportation, Room W12-140, 1200 New Jersey Avenue SE, Washington, DC 20590-0001.

• Hand Delivery: Ground Floor, Room W12-140, DOT Building, 1200 New Jersey Avenue SE, Washington, DC, between 9 a.m. and 5 p.m. e.t., Monday-Friday, except Federal holidays.

Instructions: All submissions must include the Agency name and docket number for this notice. For detailed instructions on submitting comments and additional information on the exemption process, see the “Public Participation” heading below. Note that all comments received will be posted without change to http://www.regulations.gov, including any personal information provided. Please see the “Privacy Act” heading for further information.

Docket: For access to the docket to read background documents or comments received, go to http://www.regulations.gov or to Room W12-140, DOT Building, 1200 New Jersey Avenue SE, Washington, DC, between 9 a.m. and 5 p.m., Monday through Friday, except Federal holidays.

Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Public participation: The http://www.regulations.gov website is generally available 24 hours each day, 365 days each year. You may find electronic submission and retrieval help and guidelines under the “help” section of the http://www.regulations.gov website as well as the DOT's http://docketsinfo.dot.gov website. If you would like notification that we received your comments, please include a self-addressed, stamped envelope or postcard or print the acknowledgment page that appears after submitting comments online.

FOR FURTHER INFORMATION CONTACT: Ms. La Tonya Mimms, Chief of Driver and Carrier Operations Division; Office of Carrier, Driver and Vehicle Safety Standards; Telephone: 202-366-9220. Email: MCPSD@dot.gov. If you have questions on viewing or submitting material to the docket, contact Docket Services, telephone (202) 366-9826.

SUPPLEMENTARY INFORMATION:

Background

I. Legal Basis

FMCSA has authority under 49 U.S.C. 31136(e) and 31315 to grant exemptions from certain parts of the Federal Motor Carrier Safety Regulations (FMCSRs). FMCSA is required to publish notice of exemption requests in the Federal Register (49 U.S.C. 31315(b)(6)(A)). This notice seeks public comment on the request posted to the docket referred to above; the Agency takes no position on its merits. FMCSA will review the request and all comments submitted to the docket before deciding whether to grant or deny the exemption.

II. Application for Exemption

Under 49 CFR 390.21, commercial motor vehicles must display the legal name or single trade name of the motor carrier operating the vehicle and the USDOT identification number assigned to that motor carrier. For motor carriers operating interchanged passenger-carrying vehicles, the requirements of section 390.21(b)(3) are satisfied if the vehicle is marked with a single placard, sign, or other device affixed to the right (curb) side of the vehicle on or near the front passenger door. The placard, sign, or device must display the legal name or a single trade name of the motor carrier operating the CMV and the motor carrier's USDOT number, preceded by the words “Operated by.”

Adirondack Trailways, Pine Hill Trailways, and New York Trailways combined operate approximately 130 motorcoaches using approximately 124 drivers in intercity bus service. The three commonly owned passenger services interchange buses and drivers frequently each year. Additionally, Adirondack Trailways is party to long-standing agreements for through service with various carriers and for revenue pooling with Greyhound Lines, Inc.

The applicants explained that the frequency with which motorcoaches are involved in interchange arrangements with the three Trailways carriers, Greyhound Lines, and other passenger carriers make it difficult to comply with section 390.21(b)(3). This is especially the case when the interchanges happen on short notice and in remote locations. Therefore, the companies are seeking an exemption from the CMV marking requirements in 49 CFR 390.21(b)(3). A copy of the application is included in the docket referenced at the beginning of this notice.

III. Request for Comments

In accordance with 49 U.S.C. 31315(b)(6), FMCSA requests public comment from all interested persons on the Trailways application. All comments received before the close of business on the comment closing date indicated at the beginning of this notice will be considered and will be available for examination at the location listed under the Addresses section of this notice. Comments received after the comment closing date will be filed in the public docket and will be considered to the extent practicable. In addition to late comments, FMCSA will also continue to docket relevant information that becomes available after the comment closing date. Interested persons should continue to examine the public docket for new material.

Issued on: January 8, 2020.
Larry W. Minor,
Associate Administrator for Policy.

[FR Doc. 2020-00403 Filed 1-13-20; 8:45 am]

BILLING CODE 4910-EX-P